DEPARTMENT OF TRANSPORTATION

Research and Special Programs Administration

Office of Hazardous Materials Safety; Notice of Delays in Processing of Exemption Applications

AGENCY: Research and Special Programs Administration, DOT.

ACTION: List of application delayed more than 180 days.

SUMMARY: In accordance with the requirements of 49 U.S.C. 5117(c), RSPA is publishing the following list of exemption applications that have been in process for 180 days or more. The reason(s) for delay and the expected completion date for action on each application is provided in association with each identified application.

FOR FURTHER INFORMATION CONTACT: Delmer Billings, Office of Hazardous Materials Exemptions and Approvals, Research and Special Programs Administration, U.S. Department of Transportation, 400 Seventh Street, SW., Washington, DC 20590-0001, (202) 366-4535.

Key to “Reason for Delay”

1. Awaiting additional information from applicant.

2. Extensive public comment under review.

3. Application is technically complex and is of significant impact or precedent-setting and requires extensive analysis.

4. Staff review delayed by other priority issues or volume of exemption applications.

Meaning of Application Number Suffixes

N—New application.

M—Modification request.

PM—Party to application with modification request.

Issued in Washington, DC, on December 1, 2004.
R. Ryan Posten,
Exemptions Program Officer, Office of Hazardous Materials Safety Exemptions & Approvals.

Application No. | Applicant | Reason for delay | Estimated date of completion
New Exemption Applications
11927-N | Alaska Marine Lines, Inc., Seattle, WA | 4 | 12-31-2004
12381-N | Ideal Chemical & Supply Co., Memphis, TN | 2 | 01-31-2005
12412-N | Great Western Chemical Company, Portland, OR | 3 | 01-31-2005
12751-N | Defense Technology Corporation, Casper, WY | 4 | 12-31-2004
12950-N | Walnut Industries, Inc., Bensalem, PA | 4 | 01-31-2005
13054-N | CHS Transportation, Mason City, IA | 4 | 12-31-2004
13176-N | Union Pacific Railroad Company, Omaha, NE | 4 | 01-31-2005
12949-N | Railway Progress Institute, Inc., Alexandria, VA | 4 | 01-31-2005
13281-N | The Dow Chemical Company, Midland, MI | 4 | 01-31-2005
13347-N | ShipMate, Inc., Torrance, CA | 4 | 12-31-2004
13341-N | National Propane Gas Association, Washington, DC | 1 | 12-31-2004
13302-N | FIBA Technologies, Inc., Westboro, MA | 4 | 12-31-2004
13314-N | Sunoco Inc., Philadelphia, PA | 4 | 01-31-2005
13309-N | OPW Engineered Systems, Lebanon, OH | 4 | 01-31-2005
13295-N | Taylor-Wharton, Harrisburg, PA | 1 | 12-31-2004
13266-N | Luxfer Gas Cylinders, Riverside, CA | 1 | 12-31-2004
13265-N | Aeropress Corporation, Shreveport, LA | 4 | 12-31-2004
13228-N | AirSep Creekside Corp., Buffalo, NY | 4 | 12-31-2004
13563-N | Applied Companies, Valencia, CA | 4 | 01-31-2005
13560-N | Texaco Ovonic Hydrogen Systems L.L.C. (TOHS), Rochester Hills, MI | 4 | 12-31-2004
13554-N | The Fertilizer Institute, Washington, DC | 4 | 12-31-2004
13547-N | CP Industries, McKeesport, PA | 4 | 01-31-2005
13484-N | Air Liquide America, L.P., Houston, TX | 4 | 12-31-2004
13482-N | U.S. Vanadium Corporation (Subsidiary of Straegic Minerals Corporation), Niagara Falls, NY | 4 | 12-31-2004
13443-N | Koch Materials Company, Wichita, KS | 4 | 12-31-2004
13461-N | FIBA Technologies, Inc., Westboro, MA | 4 | 12-31-2004
13346-N | Stand-By-Systems, Inc., Dallas, TX | 1 | 12-31-2004
13585-N | Texaco Ovonic Hydrogen Systems, L.L.C., Rochester Hills, MI | 4 | 12-31-2004
13582-N | Linde Gas LLC (Linde), Independence, OH | 4 | 01-31-2005
13422-N | Puritan Bennett, Plainfield, IN | 3 | 12-31-2004
13188-N | General Dynamics, Lincoln, NE | 1 | 12-31-2004
13183-N | Becton Dickinson, Sandy, UT | 4 | 12-31-2004
13077-N | MacIntyre, Middlebury, VT | 4 | 01-31-2005
12797-N | Environmental Quality Co., Belleville, MI | 4 | 01-31-2005
Modification to Exemptions
11769-M | Great Western Chemical Company, Portland, OR | 2 | 01-31-2005
12065-M | Petrolab Company, Latham, NY | 4 | 12-31-2004
10019-M | Structural Composites Industries, Pomona, CA | 3 | 12-31-2004
11241-M | Rohm and Haas Co., Philadelphia, PA | 1 | 01-31-2005
11537-M | Hawkins, Inc., Minneapolis, MN | 2 | 01-31-2005
7280-M | Department of Defense, Ft. Eustis, VA | 4 | 12-31-2004
10915-M | Luxfer Gas Cylinders (Composite Cylinder Division), Riverside, CA | 1 | 01-31-2005
10878-M | Tankcon FRP Inc., Boisbriand, Qc | 1, 3 | 01-31-2005
9421-M | Taylor-Wharton (Gas & Fluid Control Group), Harrisburg, PA | 4 | 12-31-2004
12022-M | Taylor-Wharton (Gas & Fluid Control Group), Harrsburg, PA | 4 | 12-31-2004
11537-M | Interstate Chemical Company, Inc., Hermitage, PA | 2 | 01-31-2005
10882-M | Espar Products, Inc., Mississauga, Ontario, Canada | 4 | 01-31-2005
13027-M | Hernco Fabrication & Services, Midland, TX | 4 | 01-31-2005
11579-M | Dyno Nobel, Inc., Salt Lake City, UT | 4 | 01-31-2005
11537-M | American Development Corporation, Vanceboro, NC | 3 | 01-31-2005
8718-M | Structural Composites Industries, Pomona, CA | 3 | 12-31-2004
8162-M | Structural Composites Industries, Pomona, CA | 3 | 12-31-2004
7277-M | Structural Composites Industries, Pomona, CA | 3 | 12-31-2004
7060-M | Federal Express, Memphis, TN | 4 | 12-31-2004
11769-M | Great Western Chemical Company, Portland, OR | 2 | 01-31-2005
11537-M | JCI Jones Chemicals, Inc., Milford, VA | 2 | 01-31-2005
11769-M | Hydrite Chemical Company, Brookfield, WI | 2 | 01-31-2005

[FR Doc. 04-26866 Filed 12-7-04; 8:45 am]

BILLING CODE 4910-60-M